DEPARTMENT OF DEFENSE

Department of the Navy

Notice of Intent To Grant Exclusive Patent License; Sequestered Solutions Alaska, LLC

AGENCY: Department of the Navy, DoD.

ACTION: Notice.

SUMMARY: The Department of the Navy hereby gives notice of its intent to grant to Sequestered Solutions Alaska, LLC, a revocable, nonassignable, exclusive license to practice in the fields of applications of the Government of the State of Alaska and applications of entities that derive the majority of their revenues from the exploration for and/or the production of hydrocarbons in the United States and certain foreign countries, the Government-owned invention described in U.S. Patent Application Serial No. 10/627,102: Systems and Methods for Providing Increased Computer Security, Navy Case No. 84,150 and any continuations, divisionals or re-issues thereof.

DATES: Anyone wishing to object to the grant of this License must file written objections along with supporting evidence, if any, not later than July 20, 2006.

ADDRESSES: Written objections are to be filed with the Naval Research Laboratory, Code 1004, 4555 Overlook Avenue, SW., Washington, DC 20375-5320.

FOR FURTHER INFORMATION CONTACT: Head, Technology Transfer Office, NRL Code 1004, 4555 Overlook Avenue, SW., Washington, DC 20375-5320, telephone 202-767-7230. Due to U.S. Postal delays, please fax 202-404-7920 or E-mail: techtran@utopia.nrl.navy.mil or use courier delivery to expedite response.

(Authority: 35 U.S.C. 207, 37 CFR part 404.)

Dated: June 22, 2006.
M. A. Harvison,
Lieutenant Commander, Judge Advocate General's Corps, U.S. Navy, Federal Register Liaison Officer.

[FR Doc. E6-10428 Filed 7-3-06; 8:45 am]

BILLING CODE 3810-FF-P